COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete products and services from the Procurement List that were furnished by nonprofit agencies employing persons who are blind or have other severe disabilities.

DATES: Comments must be received on or before: May 19, 2019.

ADDRESSES: Committee for Purchase From People Who Are Blind or Severely Disabled, 1401 S Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following products and services are proposed for deletion from the Procurement List:

Products

NSNs—Product Names:

8030-00-251-5048—Compound, Corrosion Preventative, Food Equipment, Clear, 1 Gallon

8030-00-251-5049—Compound, Corrosion Preventative, Food Equipment, Clear, 5 Gallons

8030-00-260-1053—Compound, Corrosion Preventative, Food Equipment, Clear, 55 Gallons

Mandatory Source of Supply: The Lighthouse for the Blind, St. Louis, MO

Contracting Activity: DLA Troop Support, Philadelphia, PA

NSNs—Product Names:

8415-00-NIB-0123—Band, Helmet, 8415-00-NIB-0124—Band, Helmet

Mandatory Source of Supply: Lions Services, Inc., Charlotte, NC

Contracting Activity: W6QK ACC-APG Natick, Natick, MA

NSNs—Product Names:

7510-00-205-0806—Fastener, Paper, 3″ Capacity with Compressor, 8.5″ Center

7510-00-235-6046—Fastener, Paper 8.5″ Nominal Distance Between Prongs

7510-00-235-6049—Fastener, Paper, 3″ Capacity with Compressor and Base

7510-00-244-1169—Fastener, Paper 2.75″ Nominal Distance Between Prongs

7510-01-442-1471—Fastener, Paper, Brown Coated, 2″ Capacity

7510-01-442-1479—Fastener, Paper, 2″ Capacity

7510-01-442-1480—Fastener, Paper, Brown Coated, 1″ Capacity

7510-01-442-1483—Fastener, Paper, 1″ Capacity

Mandatory Source of Supply: Delaware County Chapter, NYSARC, Inc., Walton, NY

7045-01-554-7680—CD/DVD Case, Clamshell, Multi-Color

Mandatory Source of Supply: Wiscraft, Inc., Milwaukee, WI

Contracting Activity: GSA/FAS Admin Svcs Acquisition BR (2, New York, NY

Services

Service Type: Administrative Services

Mandatory for: Chicago Cooperative Adm Support Unit (CASU): Philadelphia Operations Center, Wanamaker Building, Philadelphia, PA

Mandatory Source of Supply: Horizon House, Inc., Philadelphia, PA

Contracting Activity: Housing and Urban Development, Department of, Dept of Housing and Urban Development

Service Type: Operation of Postal Service Center

Mandatory for: Kirtland Air Force Base: Buildings 20204 and 926, Kirtland AFB, NM

Mandatory Source of Supply: LifeROOTS, Inc., Albuquerque, NM

Contracting Activity: Veterans Affairs, Department of, NAC

Service Type: Janitorial/Custodial

Mandatory for: U.S. Federal Building and Courthouse, 500 Fannin Street, Shreveport, LA

Mandatory Source of Supply: Goodwill Industries of North Louisiana, Inc., Shreveport, LA

Contracting Activity: General Services Administration, FPDS Agency Coordinator

Service Type: Custodial Services

Mandatory for: Cereal Crops Research Unit: USDA Agricultural Research Service, 502 Walnut Street, Madison, WI

Mandatory Source of Supply: Madison Area Rehabilitation Centers, Inc., Madison, WI

Contracting Activity: Agricultural Research Service, USDA ARS MWA 5114

Service Type: Switchboard Operation

Mandatory for: Defense Supply Center Richmond: 8000 Jefferson Davis Highway, Richmond, VA

Mandatory Source of Supply: Goodwill Services, Inc, Richmond, VA

Contracting Activity: Defense Logistics Agency, DLA Aviation

Service Type: Administrative Services

Mandatory for: U.S. Attorney's Office-Atlanta, DOJ, Atlanta, GA

Mandatory Source of Supply: Bobby Dodd Institute, Inc., Atlanta, GA

Contracting Activity: Federal Prison System, Terminal Island, FCI

Service Type: Microfilm Reproduction

Mandatory for: United States Marine Corps: Headquarters (Navy Annex), Washington, DC

Mandatory Source of Supply: ServiceSource, Inc., Oakton, VA

Service Type: Laundry Service

Mandatory for: Whidbey Island Naval Air Station, Oak Harbor, WA

Mandatory Source of Supply: Northwest Center, Seattle, WA

Mandatory for: Everett Naval Station, Everett, WA

Mandatory Source of Supply: Northwest Center, Seattle, WA

Mandatory for: Everett Naval Station: Bachelor Enlisted Quarters (BEQ), Everett, WA

Mandatory Source of Supply: Northwest Center, Seattle, WA

Mandatory for: Bangor Naval Subase BOQ & BEQ, Bremerton, WA

Mandatory Source of Supply: Northwest Center, Seattle, WA

Contracting Activity: Dept of the Navy, U.S. Fleet Forces Command

Service Type: Catering Service

Mandatory for: Salt Lake City Military Entrance Processing Station, Fort Douglas, UT

Contracting Activity: Dept of the Air Force, FA7014 AFDW PK

Service Type: Grounds Maintenance

Mandatory for: USDA, Agriculture Research Service: Weslaco Center, Weslaco, TX

Mandatory Source of Supply: Mavagi Enterprises, Inc., San Antonio, TX

Contracting Activity: Agricultural Research Service, USDA ARS SPA 7D79

Service Type: Administrative Services

Mandatory for: Social Security Administration, Camp Springs, MD

Mandatory Source of Supply: Anchor Mental Health Association, Washington, DC

Contracting Activity: Department of Health and Human Services

Service Type: Mailroom Service

Mandatory for: U.S. Coast Guard, Integrated Support Command, Alameda Mail Center, Alameda, CA

Mandatory Source of Supply: Pacific Coast Community Services, Richmond, CA

Contracting Activity: U.S. Coast Guard, SILC BSS

Patricia Briscoe,
Deputy Director, Business Operations (Pricing and Information Management).

[FR Doc. 2019-07882 Filed 4-18-19; 8:45 am]

BILLING CODE 6353-01-P